ENVIRONMENTAL PROTECTION AGENCY

[FRL-8053-8]

Notice of Availability of “Award of Grants and Cooperative Agreements for the Special Projects and Programs Authorized by the Agency's FY 2006 Appropriations Act”

AGENCY: Environmental Protection Agency (EPA).

ACTION: Notice of availability.

SUMMARY: EPA is announcing the availability of a memorandum entitled “Award of Grants and Cooperative Agreements for the Special Projects and Programs Authorized by the Agency's Fiscal Year (FY) 2006 Appropriations Act.” This memorandum provides information and guidelines on how EPA will award and administer grants for the special projects and programs identified in the State and Tribal Assistance Grants (STAG) account of the Agency's FY 2006 Appropriations Act (Pub. L. 109-54). The STAG account provides budget authority for funding identified water, wastewater and groundwater infrastructure projects, as well as budget authority for funding the United States-Mexico Border Program, and the Alaska Rural and Native Villages Program. Each grant recipient will receive a copy of this document from EPA.

ADDRESSES: The subject memorandum may be viewed and downloaded from EPA's homepage, http://www.epa.gov/owm/cwfinance/cwsrf/law.htm. If you would like a copy of the memorandum, but do not have computer access, please request a copy via phone or e-mail as indicated below.

FOR FURTHER INFORMATION CONTACT: George Ames, U.S. Environmental Protection Agency, Office of Wastewater Management (4201M), 1200 Pennsylvania Avenue, NW., Washington, DC, 20460; (202) 564-0661 or ames.george@epa.gov.

Dated: March 29, 2006.
Jane S. Moore,
Acting Director, , Office of Wastewater Management.

[FR Doc. 06-3296 Filed 4-27-06; 8:45 am]

BILLING CODE 6560-50-P